DEPARTMENT OF COMMERCE

National Oceanic and Atmospheric Administration

50 CFR Part 679

[Docket No. 010112013-1013-01; I.D. 032001D]

Fisheries of the Exclusive Economic Zone Off Alaska; Pollock in Statistical Area 610 of the Gulf of Alaska

AGENCY: National Marine Fisheries Service (NMFS), National Oceanic and Atmospheric Administration (NOAA), Commerce.

ACTION: Inseason adjustment; request for comments.

SUMMARY: NMFS issues an inseason adjustment opening the B fishing season for pollock in Statistical Area 610 of the Gulf of Alaska (GOA) for 12 hours effective 1200 hrs, Alaska local time (A.l.t.), March 21, 2001, until 2400 hrs, A.l.t., March 21, 2001. This adjustment is necessary to prevent the under harvest of the B seasonal allowance of the pollock total allowable catch (TAC) in Statistical Area 610 of the GOA.

DATES: Effective 1200 hrs, A.l.t., March 21, 2001, until 2400 hrs, A.l.t., March 21, 2001. Comments must be received at the following address no later than 4:30 p.m., A.l.t., April 5, 2001.

ADDRESSES: Comments may be mailed to Sue Salveson, Assistant Regional Administrator, Sustainable Fisheries Division, Alaska Region, NMFS, P.O. Box 21668, Juneau, AK 99802-1668, Attn: Lori Gravel. Hand delivery or courier delivery of comments may be sent to the Federal Building, 709 West 9th Street, Room 453, Juneau, AK 99801.

FOR FURTHER INFORMATION CONTACT: Andrew N. Smoker, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

NMFS issued a prohibition to directed fishing for pollock effective March 16, 2001, for Statistical Area 610, in accordance with § 679.20(d)(1)(iii) (66 FR 15359, March 19, 2001).

As of March 19, 2001, 600 metric tons (mt) of pollock remain in the B seasonal allowance of the pollock TAC in Statistical Area 610 of the GOA. Section 679.23(b) specifies that the time of all openings and closures of fishing seasons other than the beginning and end of the calendar fishing year is 1200 hrs, A.l.t. Current information shows the catching capacity of vessels catching pollock for processing by the inshore component in Statistical Area 610 of the GOA is about 1,200 mt per day. The Administrator, Alaska Region, NMFS, has determined that the B seasonal allowance of the pollock TAC could be exceeded if a 24-hour fishery were allowed to occur. NMFS intends that the seasonal allowance not be exceeded and, therefore, will not allow a 24-hour directed fishery. NMFS, in accordance with § 679.25(a)(1)(i)and § 679.25(a)(2)(i), is adjusting the B fishing season for pollock in Statistical Area 610 of the GOA by opening the fishery at 1200 hrs, A.l.t., March 21, 2001, and closing the fishery at 2400 hrs, A.l.t., March 21, 2001, at which time directed fishing for pollock will be prohibited. This action has the effect of opening the fishery for 12 hours. NMFS is taking this action to allow a controlled fishery to occur, thereby preventing the overharvest of the B seasonal allowance of the pollock TAC designated in accordance with the Final 2001 Harvest Specifications and Associated Management Measures for the Groundfish Fisheries Off Alaska (66 FR 7276, January 22, 2001) and § 679.20(a)(5)(ii)(C). In accordance with § 679.25(a)(2)(iii), NMFS has determined that prohibiting directed fishing at 2400 hrs, A.l.t., March 21, 2001, after a 12-hour opening is the least restrictive management adjustment to achieve the B seasonal allowance of the pollock TAC and will allow other fisheries to continue in noncritical areas and time periods. Pursuant to § 679.25(b)(2), NMFS has considered data regarding catch per unit of effort and rate of harvest in making this adjustment.

Classification

This action responds to the best available information recently obtained from the fishery. The Assistant Administrator for Fisheries, NOAA, finds that the need to immediately implement this action to allow full utilization of the pollock TAC constitutes good cause to waive the requirement to provide prior notice and opportunity for public comment pursuant to the authority set forth at 5 U.S.C. 553(b)(3)(B) and 50 CFR 679.20(b)(3)(iii)(A), as such procedures would be unnecessary and contrary to the public interest. Similarly, the need to implement these measures in a timely fashion to allow full utilization of the pollock TAC constitutes good cause to find that the effective date of this action cannot be delayed for 30 days. In addition, this action relieves a restriction on the harvest of pollock in statistical area 610. Accordingly, under 5 U.S.C. 553(d), a delay in the effective date is hereby waived.

Without this inseason adjustment, NMFS could not allow the B seasonal allowance of the pollock TAC in Statistical Area 610 of the GOA to be harvested in an expedient manner and in accordance with the regulatory schedule. Under § 679.25(c)(2), interested persons are invited to submit written comments on this action to the above address until April 5, 2001.

This action is required by §§ 679.20 and 679.25 and is exempt from review under Executive Order 12866.

Authority: 16 U.S.C. 1801 et seq.

Dated: March 21, 2001.
Bruce C. Morehead,
Acting Director, Office of Sustainable Fisheries, National Marine Fisheries Service.

[FR Doc. 01-7413 Filed 3-21-01; 2:49 pm]

BILLING CODE 3510-22-S